DEPARTMENT OF HEALTH AND HUMAN SERVICES

National Institutes of Health

Center for Scientific Review; Amended Notice of Meeting

Notice is hereby given of a change in the meeting of the Center for Scientific Review Special Emphasis Panel RFA-OD-23-013 and RFA-OD-23-014—Understanding Chronic Conditions Understudied Among Women Special Emphasis Panel (SEP), November 20, 2023, 10:00 a.m. to November 21, 2023, 06:30 p.m., National Institutes of Health, Rockledge II, 6701 Rockledge Drive, Bethesda, MD, 20892 which was published in the Federal Register on October 27, 2023, 88 FR 73865 Doc 2023-23748

This meeting is being amended to change the Panel name to Center for Scientific Review Special Emphasis Panel RFA-OD-23-013 and RFA-OD-23-014—Understanding Chronic Conditions Understudied Among Women. The meeting is closed to the public.

Dated: November 2, 2023.
Melanie J. Pantoja,
Program Analyst, Office of Federal Advisory Committee Policy.

[FR Doc. 2023-24579 Filed 11-6-23; 8:45 am]

BILLING CODE 4140-01-P